NUCLEAR REGULATORY COMMISSION

[NRC-2020-0101]

Notice To Conduct Scoping and Prepare an Advanced Nuclear Reactor Generic Environmental Impact Statement

AGENCY: Nuclear Regulatory Commission.

ACTION: Intent to conduct scoping process and prepare an Advanced Nuclear Reactor Generic Environmental Impact Statement (ANR GEIS); public meeting webinar; request for comment.

SUMMARY: The U.S. Nuclear Regulatory Commission (NRC) will conduct a scoping process to gather information necessary to prepare an ANR GEIS for small-scale advanced nuclear reactors. The NRC is seeking stakeholder input and comments on this action and has scheduled a public meeting webinar.

DATES: The NRC will hold a webinar on May 28, 2020 from 1:00 p.m. to 4:00 p.m. Members of the public are invited to submit comments on the scope of the ANR GEIS by June 30, 2020. Scoping comments received after this date will be considered if it is practical to do so, but the NRC is able to ensure consideration only for comments received before this date.

ADDRESSES: You may submit comments by any of the following methods:

• Federal Rulemaking website: Go to https://www.regulations.gov and search for Docket ID NRC-2020-0101. Address questions about docket IDs on Regulations.gov to Jennifer Borges; telephone: 301-287-9127; email: Jennifer.Borges@nrc.gov. For technical questions, contact the individual listed in the FOR FURTHER INFORMATION CONTACT section of this document.

• Email comments to: AdvancedReactors-GEIS@nrc.gov.

• Mail comments to: Office of Administration, Mail Stop TWFN-7-A60M, U.S. Nuclear Regulatory Commission, Washington, DC 20555-0001. For additional direction on obtaining information and submitting comments, see “Obtaining Information and Submitting Comments” in the SUPPLEMENTARY INFORMATION section of this document.

FOR FURTHER INFORMATION CONTACT: Jack Cushing, Office of Nuclear Material Safety and Safeguards, U.S. Nuclear Regulatory Commission, Washington DC 20555-0001; telephone: 301-415-1424 email: Jack.Cushing@nrc.gov.

SUPPLEMENTARY INFORMATION:

I. Obtaining Information and Submitting Comments

A. Obtaining Information

Please refer to Docket ID NRC-2020-0101 when contacting the NRC about the availability of information regarding this action. You may obtain publicly-available information related to this action by any of the following methods:

• Federal Rulemaking website: Go to https://www.regulations.gov and search for Docket ID NRC-2020-0101.

• NRC's Agencywide Documents Access and Management System (ADAMS): You may obtain publicly-available documents online in the NRC Library at https://www.nrc.gov/reading-rm/adams.html. To begin the search, select “Begin Web-based ADAMS Search.” For problems with ADAMS, please contact the NRC's Public Document Room reference staff at 1-800-397-4209 or 1-301-415-4737 between 8:00 a.m. and 4:00 p.m., Monday through Friday, except Federal Holidays, or by email to pdr.resource@nrc.gov. The ADAMS accession number for each document referenced (if it is available in ADAMS) is provided the first time that it is mentioned in this document.

• Project web page: Information related to the ANR GEIS project can be accessed on the NRC's web page at: https://www.nrc.gov/reactors/new-reactors/advanced.html.

B. Submitting Comments

Please include Docket ID NRC-2020-0101 in the subject line of your comment submission in order to ensure that the NRC is able to make your comment submission available to the public in this docket.

The NRC cautions you not to include identifying or contact information that you do not want to be publicly disclosed in your comment submission. The NRC will post all comment submissions at https://www.regulations.gov and will enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC intends to develop a GEIS for advanced nuclear reactors with a small generating output and correspondingly small environmental footprint in order to streamline the environmental review process for future small-scale advanced nuclear reactor environmental reviews. The purpose of an ANR GEIS is to determine which environmental impacts could result in essentially the same (generic) impact for different advanced nuclear reactor designs that fit within the parameters set in the GEIS, and which environmental impacts could result in different levels of impacts requiring a plant-specific analysis. Environmental reviews for small-scale advanced nuclear reactor license applications could incorporate the ANR GEIS by reference and provide site-specific information and analyses in a Supplemental Environmental Impact Statement (SEIS), thereby streamlining the environmental review process. In SECY-20-0020 (ADAMS Accession No. ML20052D175), the staff informed the Commission that it plans to use a technology-neutral plant parameter envelope (or PPE) approach to bound small-scale ANR projects. For the purposes of the ANR GEIS, the staff considers a “small-scale” ANR as having the potential to generate up to approximately 30 megawatts thermal per reactor with a correspondingly small environmental footprint. The actual bounding thermal power level of the ANR and the environmental footprint used in the ANR GEIS are topics to be determined during the scoping process.

Because small-scale advanced reactors are not specific to only one reactor design and could be sited anywhere in the United States that meets NRC siting requirements, the NRC decided to pursue a technology neutral approach using a PPE. The PPE will consist of a table of bounding values or parameters for different reactor designs located on a site. In addition, a table of values representing the site parameter envelope (e.g., size of site, quantity of water used, demographics) will be developed to describe the affected environment. The ANR GEIS will evaluate the impacts of a reactor that fits within the bounds of the PPE on a site that fits within the bounds of the site parameter envelope to determine the environmental impact.

An application that references the ANR GEIS will need to demonstrate that its project is bounded by the analysis in the ANR GEIS and that there is no significant new information affecting the evaluation. The application will also need to analyze the site-specific resources not resolved generically in the ANR GEIS. If the project is bounded by the ANR GEIS and there is no significant new information, the NRC will incorporate by reference the ANR GEIS and no further analysis would be needed for a resource that was resolved generically. If impacts to a resource have not been resolved generically by the ANR GEIS, the site-specific SEIS will evaluate the impacts to the resource.

The NRC will not authorize construction or operation of any advanced nuclear reactors through the ANR GEIS. Consultation required by Section 106 of the National Historic Preservation Act and Section 7 of the Endangered Species Act will be conducted and included in the SEIS for each application and will not be part of the ANR GEIS.

III. Request for Comments

This document informs the public of the NRC's intention to conduct scoping and prepare an ANR GEIS for small-scale advanced nuclear reactors. The NRC is seeking input from the public and stakeholders regarding the parameters that the NRC should use to bound the small-scale advanced reactors in the plant parameter envelope (including power level and size of the site) and the parameters that should be used to bound the affected environment in the site parameter envelope. In addition, the NRC is seeking input on resources or issues that can be resolved generically and ones that cannot.

This document is being published in accordance with National Environmental Policy Act and the NRC's regulations found at part 51 of title 10 of the Code of Federal Regulations (10 CFR). The NRC will first conduct scoping for the ANR GEIS and, as soon as practicable thereafter, will prepare a draft ANR GEIS for public comment. Participation in the scoping process by members of the public and local, State, Tribal, and Federal government agencies is encouraged. In accordance with 10 CFR 51.29 the scoping process will be used to accomplish the following:

a. Define the proposed action;

b. Determine the scope of the ANR GEIS and identify the significant issues to be analyzed in depth;

c. Identify and eliminate from detailed study those issues that are peripheral or are not significant; or were covered by a prior environmental review;

d. Identify any Environmental Assessments and other Environmental Impact Statements (ElSs) that are being or will be prepared that are related to, but are not part of, the ANR GEIS being considered;

e. Identify other environmental review and consultation requirements related to the proposed action;

f. Indicate the relationship between the timing of the preparation of the ANR GEIS and the Commission's tentative planning and decision-making schedule;

g. Identify any cooperating agencies and, as appropriate, allocate assignments for preparation and schedules for completing the ANR GEIS to the NRC and any cooperating agencies; and

h. Describe how the ANR GEIS will be prepared, including any contractor assistance to be used.

The NRC invites the following entities to participate in scoping:

a. Any Federal agency that has jurisdiction by law or special expertise with respect to any environmental impact involved or that is authorized to develop and enforce relevant environmental standards;

b. Affected State and local government agencies, including those authorized to develop and enforce relevant environmental standards;

c. Any affected Indian Tribe; and

d. Any person who requests or has requested an opportunity to participate in the scoping process.

IV. Public Scoping Webinar

In accordance with 10 CFR 51.26(b), the scoping process for an EIS may include a public scoping meeting, which may help identify significant issues related to a proposed activity and to determine the scope of issues to be addressed in an EIS.

The NRC is announcing that it will hold the public meeting as a webinar. The webinar will be held online and will offer a telephone line for members of the public to submit comments. A court reporter will be recording all comments received during the webinar. To be considered, comments must be provided either at the transcribed public meeting or in writing, as discussed in the ADDRESSES section of this document. The date and time for the public webinar are as follows:

Meeting | Date | Time | Location
Public Webinar | 5/28/2020 | 1:00 PM to 4:00 PM (EDT) | Webinar Information: https://usnrc.webex.com. Event number: 905642855. Telephone Bridge Line: 1-888-622-9844. Participant Passcode: 5484985.

Persons interested in attending this webinar should monitor the NRC's Public Meeting Schedule web page at https://www.nrc.gov/pmns/mtg for additional information, agendas for the meeting, and access information for the webinar. Participants should register in advance of the meeting by visiting the website (https://usnrc.webex.com) and using the event number provided above. A confirmation email will be generated providing additional details and a link to the webinar.

Dated: April 21, 2020.
For the Nuclear Regulatory Commission.
Kenneth T. Erwin,
Chief, Environmental Review New Reactor Branch, Division of Rulemaking, Environmental, and Financial Support, Office of Office of Nuclear Material Safety and Safeguards.

[FR Doc. 2020-08798 Filed 4-29-20; 8:45 am]

BILLING CODE 7590-01-P